DEPARTMENT OF LABOR

Employment and Training Administration

[TA-W-50,459]

Tingley Rubber Corporation, South Plainfield, NJ; Notice of Termination of Investigation

Pursuant to Section 221 of the Trade Act of 1974, an investigation was initiated on August 5, 2003 in response to a worker petition which was filed on behalf of workers at Tingley Rubber Corporation, South Plainfield, New Jersey.

An active certification covering the petitioning group of workers is already in effect (TA-W-39,814, as amended). Consequently, further investigation in this case would serve no purpose, and the investigation has been terminated.

Signed in Washington, DC this 15th day of August 2003.
Elliott S. Kushner,
Certifying Officer, Division of Trade Adjustment Assistance.

[FR Doc. 03-22995 Filed 9-9-03; 8:45 am]

BILLING CODE 4510-30-P